CIVIL RIGHTS COMMISSION

Sunshine Act Meeting

AGENCY: United States Commission on Civil Rights.

ACTION: Notice of Commission public business meeting.

DATES: Friday, May 14, 2021, 12:00 p.m. EST.

FOR FURTHER INFORMATION CONTACT: Angelia Rorison: 202-376-7700; publicaffairs@usccr.gov.

ADDRESSES: Meeting to take place by telephone and is open to the public by telephone: 1-866-556-2439, Conference ID #: 977-0757. Computer assisted real-time transcription (CART) will be provided. The web link to access CART (in English) on Friday, May 14th, 2021 is https://www.streamtext.net/player?event=USCCR. Please note that CART is text-only translation that occurs in real time during the meeting and is not an exact transcript.

Meeting Agenda

I. Approval of Agenda

II. Business Meeting

A. Discussion and Vote on North Carolina Advisory Committee Appointments;

B. Presentations from TBD Advisory Committees to the Commission on Recent Reports

C. Management and Operations

• Staff Director's Report

III. Adjourn Meeting

Dated: May 12, 2021.
Angelia Rorison,
USCCR Media and Communications Director.

[FR Doc. 2021-10365 Filed 5-12-21; 4:15 pm]

BILLING CODE 6335-01-P